NATIONAL SCIENCE FOUNDATION

Emergency Clearance; Public Information Collection Requirements Submitted to the Office of Management and Budget; Notice

AGENCY: National Science Foundation.

ACTION: Emergency Clearance: Public Information Collection Requirements Submitted to the Office of Management and Budget (OMB).

SUMMARY: The National Science Foundation (NSF) is announcing plans to request approval of this collection. In accordance with the requirement of section 3506(c)(2)(A) of the Paperwork Reduction Act of 1995 (Pub. L. 104-13), we are providing an opportunity for public comment on this action. After obtaining and considering public comment, NSF will prepare the submission requesting that OMB approve clearance of this collection for no longer than 3 years.

DATES: Interested persons are invited to send comments regarding the burden or any other aspect of these collections of information requirements. However, as noted below, comments on these information collection and record keeping requirements must be received by the designees referenced below by November 13, 2001.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov, and

Office of Information and Regulatory Affairs, Office of Management and Budget, Room 10235, New Executive Office Building, Washington, DC 20503. Attn: Lauren Wittenberg, NSF Desk Officer.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339 between 8 a.m. and 8 p.m., Eastern time, Monday through Friday.

SUPPLEMENTARY INFORMATION:

Request For Emergency Clearance for Data Collection in Support of a Cross-Site Evaluation of National Science Foundation's Directorate For Education and Human Resources The Urban Systemic Program

OMB Approval Number: OMB 3145-(new).

Expiration Date: Not applicable.

Abstract: The National Science Foundation (NSF) requests a six-month (180 days) emergency clearance for the Evaluation of the Urban Systemic Program (USP), a study that has been on-going since October 1999 under OMB 3145-0136. Due to a change in OMB terms of clearance for OMB 3145-0136, NSF is seeking to establish an independent clearance for the USP study. A four-month delay (for standard OMB clearance) would negatively impact the baseline data collection by placing the resumption of scheduling of data collection at the end of the 2001-2002 school year. Participating school districts (respondents) work on a nine-month schedule. Scheduling evaluator's visits at the height of end-of-year events and on the eve of summer vacation is inconvenient for the respondents. Furthermore, when the school year ends key interviewees including teachers are unavailable.

As part of the study, four site visits have been scheduled for fall of 2001. The inconvenience to these districts represented by a delay or suspension of data collection activities would harm the overall evaluation effort. Finally, given the turnover in leadership in urban school districts, a time lapse in data collection will result in an increased risk of the departure of key USP staff, further delaying timely and reliable data collection. As part of multiple data collection activities over time, opportunities to supplement baseline data through observations of normal USP operations will be compromised, possibly leading to inconsistent data across sites.

USP began in 1999 when NSF made competitive awards of up to $3 million, for each of 5 years, to five urban school districts. The USP represents NSF's major current investment in improving science and mathematics education in urban school systems across the country, and having a third-party evaluative documentation will be important in interpreting the worthiness of the investment.

NSF uses the data to: (1) Determine whether to modify or extend the USP concepts and (2) share best practices and lessons learned about systemic reform with school, district, and state educators.

Specifically, during the first two years of the USP Cross-Site Evaluation First, the third-party has produced reports for others at NSF (e.g., the National Science Board). Though there are other sources of such documentation, the information provided by the Cross-Site team is valued because the team is conducting an evaluation and is not associated in any other way with the program sites. Second, the Division of Educational System Reform uses the information to supplement its annual program monitoring. Third, NSF will use the information as a program evaluation, both assessing its investment in the USP program and potentially helping to guide the design of future programs.

Respondents: State, local or tribal governments.

Number of Respondents: 378.

Burden on the Public: 270 hours.

Dated: November 1, 2001.
Suzanne H. Plimpton,
NSF Reports Clearance Officer.

[FR Doc. 01-27852 Filed 11-6-01; 8:45 am]

BILLING CODE 7555-01-M